DEPARTMENT OF THE INTERIOR

Bureau of Indian Affairs

[167 A2100DD/AAKC001030/A0A501010.999900]

Renewal of Agency Information Collection for Tribal Self-Governance Program

AGENCY: Bureau of Indian Affairs, Interior.

ACTION: Notice of request for comments.

SUMMARY: In compliance with the Paperwork Reduction Act of 1995, the Bureau of Indian Affairs is seeking comments on the renewal of Office of Management and Budget (OMB) approval for the collection of information for Tribal Self-Governance Program authorized by OMB Control Number 1076-0143. This information collection expires January 31, 2016.

DATES: Submit comments on or before December 28, 2015.

ADDRESSES: You may submit comments on the information collection to Sharee M. Freeman, Director, Office of Self-Governance, 1951 Constitution Avenue NW., Mail Stop 355-G SIB, Washington, DC 20240; telephone: (202) 219-0240, email: Sharee.Freeman@bia.gov.

FOR FURTHER INFORMATION CONTACT: Sharee Freeman, (202) 219-0240.

SUPPLEMENTARY INFORMATION:

I. Abstract

The Office of Self-Governance is seeking comments on the information collection entitled “Tribal Self-Governance Program, 25 CFR 1000,” as we prepare to renew these collections that are required by the Paperwork Reduction Act of 1995. The information collected will be used to establish requirements for entry into the pool of qualified applicants for Self-Governance and to meet reporting requirements of the Tribal Self-Governance Act.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual may not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0143.

Title: Tribal Self-Governance program, 25 CFR 1000.

Brief Description of Collection: The Self-Governance program is authorized by the Tribal Self-Governance Act of 1994, Public Law 103-413 (the Act), as amended. Indian tribes interested in entering into Self-Governance must submit certain information as required by the Act. In addition, those tribes and tribal consortia that have entered into Self-Governance funding agreements will be requested to submit certain information as described in 25 CFR 1000. This information will be used to justify a budget request submission on their behalf and to comport with section 405 of the Act that calls for the Secretary to submit an annual report to the Congress. Responses are required to obtain or retain a benefit or are voluntary, depending upon the part of the program being addressed.

Type of Review: Extension without change of currently approved collection.

Respondents: Federally recognized Indian tribes and tribal consortia participating in or wishing to enter into Tribal Self-Governance.

Number of Respondents: 75.

Number of Responses: 84.

Estimated Time per Response: Completion times vary from 30 minutes to 400 hours, with an average of approximately 43 hours.

Frequency of Response: On occasion or annually.

Obligation to Respond: Response required to obtain a benefit.

Estimated Total Annual Hour Burden: 4,443 hours.

Estimated Total Annual Cost: $10,500.

Elizabeth K. Appel,
Director, Office of Regulatory Affairs and Collaborative Action—Indian Affairs.

[FR Doc. 2015-27211 Filed 10-26-15; 8:45 am]

BILLING CODE 4337-15-P